DEPARTMENT OF THE INTERIOR

National Park Service

National Register of Historic Places; Notification of Pending Nominations and Related Actions

Nominations for the following properties being considered for listing or related actions in the National Register were received by the National Park Service before October 13, 2007. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St., NW., 8th floor, Washington DC 20005; or by fax, 202-371-6447. Written or faxed comments should be submitted by November 13, 2007.

J. Paul Loether,
Chief, National Register of Historic Places/National Historic Landmarks Program.

FLORIDA

Miami-Dade County

Homestead Historic Downtown District, Bounded by NW. 4th St., S. Railroad Ave., SE. 1st Rd. & N Krome Dr., Homestead, 07001199.

Sarasota County

Revere Quality Institute House, (Sarasota School of Architecture MPS) 100 Ogden Ln., Sarasota, 07001200.

GEORGIA

Henry County

McDonough Historic District, Centered on Griffin St. and Keys Ferry St., McDonough, 07001201.

MASSACHUSETTS

Worcester County

Goldberg Building, (Worcester MRA) 97-103 Water St., Worcester, 07001202.

NEW YORK

Erie County

Howell, Edgar W., House, 52 Lexington Ave., Buffalo, 07001203.

Genesee County

Machpelah Cemetery, North St., LeRoy, 07001204.

Schenectady County

Niskayuna Railroad Station, River Rd., Niskayuna, 07001205.

PENNSYLVANIA

Pike County

Metz Ice Plant, Harford St., Milford, 07001206.

SOUTH CAROLINA

Spartanburg County

Pacolet Mills Historic District, Roughly bounded by Brewster, Millikin, Walker, Montgomery & Moore Sts. & Granite Ave., Pacolet, 07001207.

SOUTH DAKOTA

Brookings County

Pioneer Park Bandshell, (Federal Relief Construction in South Dakota MPS) SW corner Jct. U.S. 14 & 1st Ave., Brookings, 07001208.

Charles Mix County

Wagner House, 29649 401st. Ave., Wagner, 07001209.

Clay County

Colton House, 402 S University St., Vermillion, 07001210.

Hand County

Jones, Mack, House, (Lustron Houses in South Dakota MPS) 315 E 3rd Ave., Miller, 07001211.

Kingsbury County

Stark and Blanch Garage, 204 S Main, Arlington, 07001212.

Meade County

Covered Wagon Resort, 14189 Cty.Rd. 79, Piedmont, 07001213.

Minnehaha County

L & A Baking Company, 910 N Main Ave., Sioux Falls, 07001214.

Union County

Nora Store, 30705 475th Ave., Alcester, 07001215.

Yankton County

Hoffman House,

307 Green St., Yankton, 07001216.

VIRGINIA

Emporia Independent City

Hicksford—Emporia Historic District, S Main St. & Brunswick Ave., Emporia (Independent City), 07001217.

WISCONSIN

Door County

JOYS (Shipwreck), (Great Lakes Shipwreck Sites of Wisconsin MPS), 500 ft. W of Sunset Park, Sturgeon Bay, 07001218.

Racine County

KATE KELLY (Shipwreck), (Great Lakes Shipwreck Sites of Wisconsin MPS) L. Michigan, 2 mi. E of Wind Pt., Wind Point, 07001219.

A request to MOVE has been made for the following resource:

ARKANSAS

Jefferson County

McDonald's Store #433 Sign, 1300 S Main St., Pine Bluff, 06000411.

A request for REMOVAL has been made for the following resources:

TENNESSEE

Greene County

Wayside, E of Greeneville off U.S. 411, Greeneville, 85003543.

Shelby County

First Methodist Church, 204 N 2nd St., Memphis, 76001804.

Gartley-Ramsay Hospital, 696 Jackson Ave., Memphis, 84003700.

Guthrie Elementary School, 951 Chelsea Ave., Memphis, 82004043.

Hill, A.B., Elementary School, 1372 Latham St., Memphis, 80004044.

Lauderdale Walker Elementary School, 995 S. Lauderdale St., Memphis, 82004046.

Linden Station and Reichman—Crosby Warehouse, 245, 281, 291 Wagner Pl., Memphis, 78002634.

Maury Elementary School, 272 N Bellevue, Memphis, 82004047.

Memphis Street Railway Company Office and Streetcar Complex, 821 Beale St., Memphis, 82004048.

Pope, Leroy, Elementary School, 190 Chelsea Ave., Memphis, 82005397.

Veterans Administration Hospital Complex, No. 88—Memphis, 1025 E.H. Crump Blvd. E., Memphis, 95001371.

[FR Doc. E7-21111 Filed 10-26-07; 8:45 am]

BILLING CODE 4312-51-P